DEPARTMENT OF LABOR

Occupational Safety and Health Administration

[Docket No. ICR-1218-0130(2002)]

Electrical Standards for Construction (29 CFR part 1926, subpart K); Extension of the Office of Management and Budget's (OMB) Approval of Information-Collection (Paperwork) Requirements

AGENCY: Occupational Safety and Health Administration (OSHA), Labor.

ACTION: Request for comment.

SUMMARY: OSHA solicits comment concerning its proposal to increase the existing burden-hour estimates for, and to extend OMB approval of, the information-collection requirements of the Electrical Standards for Construction (29 CFR part 1926, subpart K).¹ These standards specify: Written descriptions of, and testing records for, the assured-equipment grounding-conductor program; warning labels and marks to alert employees to hazardous electrical conditions; and tags to warn against energizing circuits and equipment on which employees are working. Accordingly, these standards prevent deaths and severe injuries among construction employees caused by high-voltage electrical hazards.

¹ Based on its assessment of the paperwork requirements contained in these standards, the Agency estimates that the total burden hours increased compared to its previous burden-hour estimate. Under this notice, OSHA is not proposing to revise these paperwork requirements in any substantive manner, only to increase the burden hours imposed by the existing paperwork requirements.

DATES: Submit written comments on or before February 19, 2002.

ADDRESSES: Submit written comments to the Docket Office, Docket No. ICR-1218-0130(2002), OSHA, U.S. Department of Labor, Room N-2625, 200 Constitution Avenue, NW., Washington, DC 20210; telephone (202) 693-2350. Commenters may transmit written comments of 10 pages or less by facsimile to (202) 693-1648.

FOR FURTHER INFORMATION CONTACT: Theda Kenney, Directorate of Safety Standards Programs, OSHA, U.S. Department of Labor, Room N-3621, 200 Constitution Avenue, N.W., Washington, DC 20210; telephone (202) 693-2444. A copy of the Agency's Information-Collection Request (ICR) supporting the need for the information collections specified by the Electrical Standards for Construction is available for inspection and copying in the Docket Office, or by requesting a copy from Theda Kenney at (202)693-2044 or Todd Owen at (202)693-2444. For electronic copies of the ICR, contact OSHA on the Internet at http://www.osha.gov, then select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(A)). This program ensures that information is in the desired format, reporting burden (time and costs) is minimal, collection instruments are understandable, and OSHA's estimate of the information-collection burden is correct.

The Electrical Standards for Construction contain a number of paperwork requirements. The following sections describe these requirements in detail.

Section 1926.404(b)(1)(iii) (“Wiring design and protection”). This paragraph requires construction employers who elect not to use ground-fault-circuit interrupters at a job site to establish and implement an assured-equipment grounding-conductor (AEGC) program. This program must cover cord sets, receptacles (that are not part of the building or structure), and equipment connected by cord and plug that employees use, or is available for their use, at construction sites. An employer must ensure that the AEGC program has a written description of the program, including the specific procedures adopted by the employer, available at the job site for review and copying by OSHA compliance officers and any affected employee, and has at least one competent person, designated by employer, to implement the program. Prior to use, the employer also must visually inspect, for external defects (e.g., missing or deformed pins, insulation damage) and possible internal damage, each cord set, attachment cap, plug and receptacle of cord sets, and any equipment connected by cord and plug (except fixed cord sets and receptacles not exposed to damage); the employer must repair any damaged or defective equipment prior to use by an employee.

Under the AEGC program, the employer must test all cord sets, receptacles that are not part of the permanent wiring of the building or structure, and cord- and plug-connected equipment that require grounding. Accordingly, employers must test each equipment-grounding connector for continuity and ensure that it is electrically continuous, and test each receptacle and attachment cap or plug for correct attachment of the equipment-grounding conductor, and ensure that the conductor connects to the proper terminal. Employers are to perform these tests before: First using the equipment; returning the equipment to service following repair; and using equipment after any incident that the employer reasonably suspects damaged equipment. In addition, an employer must conduct testing at least every three months, except for fixed cord sets and receptacles not exposed to damage, which employees must test at least every six months. Employers must also record the tests, including the identity of each receptacle, cord set, and cord- and plug-connected equipment that passed the test, and the previous testing date or the interval covered by the last test. The employer is to maintain these records using logs, color coding, or other effective means until replaced by the next record, and make them available at the job site for inspection by OSHA compliance officers and affected employees.

The purpose of the AEGC program is to detect and correct faults in grounding conductors before a high-voltage accident occurs. Grounding conductors often fail because of the rough use they receive at construction sites, and such failure results in improperly grounded equipment; employees who then use the improperly grounded equipment are at risk for death or injury caused by high-voltage electrical shock. The written program identifies the equipment that the competent person must inspect and test, and delineates the procedures they are to use while inspecting and testing the equipment for grounding faults. Making the written program available for review and copying by OSHA compliance officers and affected employees ensures that the program covers the required equipment currently used at the work site, and that the competent person is following appropriate procedures during inspection and testing. Recording the tests results informs OSHA compliance officers and affected employees that the competent person tested the required equipment, and whether or not this equipment is safe to use.

Sections 1926.403(i)(2)(ii) (“General requirements [for installation safety requirements]”); 404(d)(2)(ii) (“Wiring design and protection”); 405(h) (“Wiring methods components, and equipment for general use”); 408(a)(2)(iii) and (a)(3)(i) (“Special systems”); and .416(a)(3) (“General requirements [for safety-related work practices]”). These provisions require employers to warn employees of hazardous electrical conditions, including:

• Section 1926.403(i)(2)(iii). Mark the entrances to rooms and other guarded locations containing exposed live parts with conspicuous warning signs that forbid unqualified employees from entering.

• Section 1926.403(i)(2)(iii). Post warning signs if unauthorized employees may come in contact with live parts.

• Section 1926.405(h). Mark termination enclosures for portable cables over 600 volts (nominal) with a high-voltage hazard warning.

• Section 1926.408(a)(2)(iii). Provide a means to completely isolate equipment for inspection and repairs. Accordingly, employers must ensure that means of isolation not designed to interrupt the load current of the circuit either are capable of interlocking with a circuit interrupter or they must post a sign warning against opening the means under load.

• Section 1926.408(a)(3)(i). Provide a metallic structure on mobile or portable equipment for enclosing the terminals of the power cables, and mark the structure with a sign warning that the structure contains energized parts.

• Section 1926.416(a)(3). Before starting work, determine whether or not an employee, tool, or machine may come into physical or electrical contact with an energized electric power circuit, whether exposed or concealed. If so, the employer must post and maintain proper warning signs where such circuits exist, and advise employees of the location of such circuits, the hazards involved, and the protective measures they are to take.

These warning signs and marks alert unqualified and unauthorized employees to the presence of electrical hazards, and notify electricians of the need to exercise caution and to take other measures to protect themselves when they are near electrical hazards. Therefore, these paperwork requirements prevent death and serious injury among these employees that may result from inadvertent contact with high-voltage electrical hazards.

Section 1926.417(a), (b), and (c) (“Lockout and tagging of circuits”). These paragraphs require that employers tag deactivated controls to energized or deenergized circuits and equipment while employees are working on them. In addition, employers are to render deenergized equipment and circuits inoperative, and attach tags at points that control the release of energy to the deenergized circuits and equipment; these tags must plainly identify these circuits and equipment.

The required tags warn others not to reenergize, or activate the controls to, circuits and equipment on which an employee is working. Accordingly, the tags prevent death and serious injury to these employees caused by high-voltage electrical shock, or by operation of the equipment.

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

OSHA is proposing to increase the existing burden-hour estimate for, and to extend OMB's approval of, the paperwork requirements specified by the Electrical Standards for Construction. The Agency is proposing to increase the total burden-hour estimate from 53,001 hours to 84,803 hours, an increase of 31,802 hours. This increase in burden hours results in large part from accounting for developing, maintaining, and disclosing AEGC test records, and basing the number of tags required under § 1926.417(a), (b), and (c) (“Lockout and tagging of circuits”) on the number of jobsites instead of the number of employees. In addition, capital costs rose from $0 to $933,333 because OSHA is accounting for the cost of purchasing new, and replacing worn or damaged, warning signs and tags. The Agency will summarize the comments submitted in response to this notice, and will include this summary in its request to OMB to extend the approval of these information-collection requirements.

Type of Review: Extension of a currently-approved information-collection requirement.

Title: Electrical Standards for Construction (29 CFR part 1926, subpart K).

OMB Number: 1218-0130.

Affected Public: Business or other for-profit; Federal government; State, local, or tribal governments.

Number of Respondents: 70,000.

Frequency of Recordkeeping: On occasion; quarterly; semi-annually; or (initially).

Average Time per Response: Varies from one minute to tag an electrical circuit or piece of equipment, to one hour to develop a written AEGC program.

Total Annual Hours Requested: 84,803.

Total Annual Costs (O&M): $933.333.

IV. Authority and Signature

John L. Henshaw, Assistant Secretary of Labor for Occupational Safety and Health, directed the preparation of this notice. The authority for this notice is the Paperwork Reduction Act of 1995 (44 U.S.C. 3506), and Secretary of Labor's Order No. 3-2000 (62 FR 50017).

Signed at Washington, DC, on December 14, 2001.
John L. Henshaw,
Assistant Secretary of Labor.

[FR Doc. 01-31271 Filed 12-18-01; 8:45 am]

BILLING CODE 4510-26-M